DEPARTMENT OF COMMERCE

Patent and Trademark Office

Agency Information Collection Activities; Submission to the Office of Management and Budget for Review and Approval; Comment Request; Complaints Regarding Invention Promoters

AGENCY: United States Patent and Trademark Office, Department of Commerce.

ACTION: Notice of information collection; request for comments.

SUMMARY: The United States Patent and Trademark Office (USPTO), as required by the Paperwork Reduction Act of 1995, invites comments on the extension and revision of an existing information collection: 0651-0044 (Complaints Regarding Invention Promoters). The purpose of this notice is to allow 60 days for public comments preceding submission of the information collection to the Office of Management and Budget (OMB).

DATES: To ensure consideration, comments regarding this information collection must be received on or before July 18, 2025.

ADDRESSES: Interested persons are invited to submit written comments by any of the following methods. Do not submit Confidential Business Information or otherwise sensitive or protected information.

• Email: InformationCollection@uspto.gov. Include “0651-0044 comment” in the subject line of the message.

• Federal eRulemaking Portal: https://www.regulations.gov.

• Mail: Justin Isaac, Office of the Chief Administrative Officer, United States Patent and Trademark Office, P.O. Box 1450, Alexandria, VA 22313-1450.

FOR FURTHER INFORMATION CONTACT: Request for additional information should be directed to: Toni Krasnic, Office of Patent Stakeholder Experience, United States Patent and Trademark Office, P.O. Box 1450, Alexandria, VA 22313-1450; 571-272-7182; or toni.krasnic@uspto.gov with “0651-0044 comment” in the subject line. Additional information about this information collection is also available at https://www.reginfo.gov under “Information Collection Review.”

SUPPLEMENTARY INFORMATION:

I. Abstract

Pursuant to the Inventors Rights Act of 1999, 35 U.S.C. 297, and implementing regulations at 37 CFR, Part 4, the United States Patent and Trademark Office (USPTO) is required to provide a form for the publication of complaints concerning invention promoters. Upon receipt of a complaint, the USPTO will forward it to the invention promoter for a response. The USPTO does not investigate these complaints or participate in any legal proceedings against invention promoters or promotion firms. Under the Inventors Rights Act and the implementing regulations, the USPTO is required to publish complaints and responses on the USPTO website, making them available to the public.

A complaint submitted to the USPTO must be clearly marked, or otherwise identified, as a complaint. The complaint must include:

(1) the name and address of the complainant;

(2) the name and address of the invention promoter;

(3) the name of the customer;

(4) the invention promotion services offered or performed by the invention promoter;

(5) the name of the mass media in which the invention promoter advertised such services;

(6) an example of the relationship between the customer and invention promoter; and

(7) a signature of the complainant.

Identifying information is necessary so that the USPTO can both forward the complaint to the invention promoter or invention promotion companies as well as notify the complainant that the complaint has been forwarded. Complainants should understand that the complaints will be forwarded to the invention promoter for response and that the complaint and response will be made available to the public as required by the Inventors Rights Act. If the USPTO does not receive a response from the invention promoter within 30 days, the complaint will be published without a response. Under this program, the USPTO does not accept complaints that request confidentiality.

This information collection contains one form, PTO/2048A (Complaint Regarding Invention Promotion), which is used by the public to submit a complaint under this program. This form is available for download from the USPTO website. Use of this form is voluntary. Complainants may submit a complaint without the form as long as the complaint includes the necessary information and the submission is clearly marked as a complaint filed under the Inventors Rights Act. Invention promotion firms may use any format when responding to a submitted complaint; there is no associated USPTO form. Complaints and responses are posted at https://www.uspto.gov/patents/basics/using-legal-services/scam-prevention/published-complaints/published. Although the USPTO typically receives only a few complaints each year, that number is expected to rise given the recent announcement of new efforts to mitigate threats and protect the integrity of the U.S. patent system: https://www.uspto.gov/patents/fraud.

The name of this information collection is being changed from “Invention Promoters/Promotion Firm Complaints” to “Complaints Regarding Invention Promoters” to better align with how this program is usually referenced.

II. Method of Collection

Items in this information collection may be submitted by mail to: Mail Stop 24, Commissioner for Patents, P.O. Box 1450, Alexandria, VA 22313-1450, or electronically via email at: patentscams@uspto.gov with “Patent scam complaint—submission” in the subject line.

III. Data

OMB Control Number: 0651-0044.

Forms:

• PTO/2048A (Complaint Regarding Invention Promoter).

Type of Review: Extension and revision of a currently approved information collection.

Affected Public: Individuals and households; Private sector.

Respondent's Obligation: Voluntary.

Frequency: On occasion.

Estimated Number of Annual Respondents: 22 respondents.

Estimated Number of Annual Responses: 22 responses.

Estimated Time per Response: The USPTO estimates that the responses in this information collection will take the public approximately 15 minutes (0.25 hours) to 30 minutes (0.50 hours). This includes the time to gather the necessary information, create the document, and submit the completed item to the USPTO.

Estimated Total Annual Respondent Burden Hours: 8 hours.

Estimated Total Annual Respondent Hourly Cost Burden: $596.

¹ The USPTO uses the mean hourly wage ($57.24) for physical scientists according to the data from the Bureau of Labor Statistics' Occupational Employment Statistics program (occupation code 19-2099)' https://www.bls.gov/oes/current/oes192099.htm).

Table 1—Total Burden Hours and Hourly Costs to Individuals and Households Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Complaint Regarding Invention Promoters (PTO/2048A) | 12 | 1 | 12 | 0.25 (15 minutes) | 3 | $57.24 | $172
| Totals | 12 |  | 12 |  | 3 |  | 172

Table 2—Total Burden Hours and Hourly Costs to Private Sector Respondents
Item No. | Item | Estimated annual respondents | Responses per respondent | Estimated annual responses | Estimated time for response (hours) | Estimated burden (hour/year) | Rate ² ($/hour) | Estimated annual respondent cost burden
|  | (a) | (b) | (a) × (b) = (c) | (d) | (c) × (d) = (e) | (f) | (e) × (f) = (g)
2 | Response to the Complaint | 10 | 1 | 10 | 0.50 (30 minutes) | 5 | $84.84 | $424
| Totals | 10 |  | 10 |  | 5 |  | 424

Estimated Total Annual Respondent Non-hourly Cost Burden: $9. There are no capital start-up costs, maintenance costs, recordkeeping costs, or filing fees associated with this information collection. However, the USPTO estimates that the total annual non-hour cost burden for this information collection, in the form of postage, is $9.

² The USPTO also uses the mean hourly wage ($84.84) for lawyers according to the data from the Bureau of Labor Statistics' Occupational Employment Statistics program (occupation code 23-1011; https://www.bls.gov/oes/current/oes231011.htm).

Postage Costs

Although the USPTO prefers that the items in this information collection be submitted electronically, responses may be submitted by mail through the United States Postal Service. The USPTO estimates that 6 complaints will be submitted in the mail. The USPTO estimates that the average postage cost for a mailed submission, using a First-Class flat large envelope, will be $1.50. Therefore, the USPTO estimates the total mailing costs for this information collection is $9.

IV. Request for Comments

The USPTO is soliciting public comments to:

(a) Evaluate whether the collection of information is necessary for the proper performance of the functions of the agency, including whether the information will have practical utility;

(b) Evaluate the accuracy of the agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time.

While a commenter may ask in a comment to withhold PII from public view, the USPTO cannot guarantee that it will be able to do so.

Justin Isaac,
Information Collections Officer, Office of the Chief Administrative Officer, United States Patent and Trademark Office.

[FR Doc. 2025-08904 Filed 5-16-25; 8:45 am]

BILLING CODE 3510-16-P